DEPARTMENT OF THE TREASURY

Office of Thrift Supervision

Proposed Agency Information Collection Activities; Comment Request—Thrift Financial Report: Schedules SC, RM, CC, DI, and SB

AGENCY: Office of Thrift Supervision (OTS), Treasury.

ACTION: Notice and request for comment.

SUMMARY: The Department of the Treasury, as part of its continuing effort to reduce paperwork and respondent burden, invites the general public and other federal agencies to comment on proposed and continuing information collections, as required by the Paperwork Reduction Act of 1995, 44 U.S.C. 3507. Today, the Office of Thrift Supervision within the Department of the Treasury solicits comments on proposed changes to the Thrift Financial Report (TFR), Schedule SC—Consolidated Statement of Condition, Schedule CC—Consolidated Commitments and Contingencies, Schedule DI—Consolidated Deposit Information, Schedule SB—Consolidated Small Business Loans, and on a proposed new schedule, Schedule RM—Annual Supplemental Consolidated Data on Reverse Mortgages. The changes are proposed to become effective in March 2010 except for the proposed new schedule RM which would become effective in December 2010.

At the end of the comment period, OTS will analyze the comments and recommendations received to determine if it should modify the proposed revisions prior to giving its final approval. OTS will then submit the revisions to the Office of Management and Budget (OMB) for review and approval.

DATES: Submit written comments on or before October 19, 2009.

ADDRESSES: Send comments to Information Collection Comments, Chief Counsel's Office, Office of Thrift Supervision, 1700 G Street, NW., Washington, DC 20552; send facsimile transmissions to FAX number (202) 906-6518; send e-mails to infocollection.comments@ots.treas.gov; or hand deliver comments to the Guard's Desk, east lobby entrance, 1700 G Street, NW., on business days between 9 a.m. and 4 p.m. All comments should refer to “TFR Revisions—2010, OMB No. 1550-0023.” OTS will post comments and the related index on the OTS Internet Site at http://www.ots.treas.gov. In addition, interested persons may inspect comments at the Public Reading Room, 1700 G Street, NW., by appointment. To make an appointment, call (202) 906-5922, send an e-mail to publicinfo@ots.treas.gov, or send a facsimile transmission to (202) 906-7755.

FOR FURTHER INFORMATION CONTACT: You can access sample copies of the proposed 2010 TFR forms on OTS's Web site at http://www.ots.treas.gov or you may request them by electronic mail from tfr.instructions@ots.treas.gov. You can request additional information about this proposed information collection from James Caton, Director, Financial Monitoring and Analysis Division, (202) 906-5680, Office of Thrift Supervision, 1700 G Street, NW., Washington, DC 20552.

SUPPLEMENTARY INFORMATION: Title: Thrift Financial Report.

OMB Number: 1550-0023.

Form Number: OTS 1313.

Abstract: OTS is proposing to revise and extend for three years the TFR, which is currently an approved collection of information.

All OTS-regulated savings associations must comply with the information collections described in this notice. OTS collects this information each calendar quarter or less frequently if so stated. OTS uses this information to monitor the condition, performance, and risk profile of individual institutions and systemic risk among groups of institutions and the industry as a whole. Except for selected items, these information collections are not given confidential treatment.

Current Action: OTS last revised the form and content of the TFR in a manner that significantly affected a substantial percentage of institutions in June 2009, and has additional revisions scheduled to become effective in December 2009. Since the beginning of 2009 OTS has evaluated its ongoing information needs. OTS recognizes that the TFR imposes reporting requirements, which are a component of the regulatory burden facing institutions. Another contributor to this regulatory burden is the examination process, particularly on-site examinations during which institution staff spend time and effort responding to inquiries and requests for information designed to assist examiners in evaluating the condition and risk profile of the institution. The amount of attention that examiners direct to risk areas of the institution under examination is, in large part, determined from TFR data. These data, and analytical reports, including the Uniform Thrift Performance Report, assist examiners in scoping and making their preliminary assessments of risks during the planning phase of the examination.

A risk-focused review of the information from an institution's TFR allows examiners to make preliminary risk assessments prior to onsite work. The degree of perceived risk determines the extent of the examination procedures that examiners initially plan for each risk area. If the outcome of these procedures reveals a different level of risk in a particular area, the examiner adjusts the examination scope and procedures accordingly.

TFR data are also a vital source of information for the monitoring and regulatory activities of OTS. Among their benefits, these activities aid in determining whether the frequency of an institution's examination cycle should remain at maximum allowed time intervals, thereby lessening overall regulatory burden. More risk-focused TFR data enhance the ability of OTS to assess whether an institution is experiencing changes in its risk profile that warrant immediate follow-up, which may include accelerating the timing of an on-site examination.

In developing this proposal, OTS considered a range of potential information needs, particularly in the areas of credit risk, liquidity, and liabilities, and identified those additions to the TFR that are most critical and relevant to OTS in fulfilling its supervisory responsibilities. OTS recognizes that increased reporting burden will result from the addition to the TFR of the new items discussed in this proposal. Nevertheless, when viewing these proposed revisions to the TFR within a larger context, they help to enhance the on- and off-site supervision capabilities of OTS, which assist with controlling the overall regulatory burden on institutions.

Thus, OTS is requesting comment on the following proposed revisions to the TFR that would take effect as of March 31, 2010, unless otherwise noted. These revisions would change the reporting frequency for small business and small farm data reported in Schedule SB from annually to quarterly, revise three lines, and add 24 new lines to the TFR, including the 16 lines proposed for a new Schedule RM.

For each of the proposed revisions or new items, OTS is particularly interested in comments from institutions on whether the information that is proposed to be collected is readily available from existing institution records. OTS also invites comment on whether there are particular proposed revisions for which the new data would be of limited relevance for purposes of assessing risks in a specific segment of the savings association industry. In such cases, OTS requests comments on what criteria, e.g., an asset size threshold or some other measure, we should establish for identifying the specific segment of the savings association industry that we should require to report the proposed information. Finally, OTS seeks comment on whether, for a particular proposed revision, there is an alternative information set that could satisfy OTS data needs and be less burdensome for institutions to report than the new or revised items that OTS has proposed. OTS will consider all of the comments it receives as it formulates a final set of revisions to the TFR for implementation in 2010.

A. Revisions of Existing Items

1. Revising line CC423 from “Lines and Letters of Credit: Open-End Consumer Lines: Credit Cards” to “Lines and Letters of Credit: Open-End Lines: Credit Cards—Consumer”;

2. Revising line DI100 from “Total Broker-Originated Deposits: Fully Insured” to “Total Broker-Originated Deposits: Fully Insured: With Balances Less than $100,000”;

3. Revising line DI350 from “Time Deposits of $100,000 or Greater (Excluding Brokered Time Deposits Participated Out by the Broker in Shares of Less Than $100,000 and Brokered Certificates of Deposit Issued in $1,000 Amounts Under a Master Certificate of Deposit)” to “Time Deposits of $100,000 through $250,000 (Excluding Brokered Time Deposits Participated Out by the Broker in Shares of Less Than $100,000 and Brokered Certificates of Deposit Issued in $1,000 Amounts Under a Master Certificate of Deposit)”; and

4. Revising the reporting frequency for Schedule SB—Consolidated Small Business Loans from annually to quarterly.

B. New Items

1. Adding a line, SC304, Credit Card Loans Outstanding—Business;

2. Adding a line, CC424, Lines and Letters of Credit: Open-End Lines: Credit Cards—Other;

3. Adding a line, DI102, Total Broker-Originated Deposits: Fully Insured: With Balances of $100,000 through $250,000;

4. Adding a line, DI114, Total Broker-Originated Deposits: Interest Expense for Fully Insured Brokered Deposits;

5. Adding a line, DI116, Total Broker-Originated Deposits: Interest Expense for Other Brokered Deposits;

6. Adding a line, DI352, Time Deposits Greater than $250,000;

7. Adding a line, DI544, Average Daily Deposit Totals: Fully Insured Brokered Time Deposits;

8. Adding a line, DI545, Average Daily Deposit Totals: Other Brokered Time Deposits;

9. Adding a line, RM110, Amount of Home Equity Conversion Mortgage Loans Outstanding;

10. Adding a line, RM112, Amount of Proprietary (Non-HECM) Reverse Mortgage Loans Outstanding;

11. Adding a line, RM310, Annual Interest Income from Home Equity Conversion Mortgage Loans;

12. Adding a line, RM312, Annual Interest Income from Proprietary (Non-HECM) Reverse Mortgage Loans;

13. Adding a line, RM330, Annual Referral Fee Income from Home Equity Conversion Mortgage Loans;

14. Adding a line, RM332, Annual Referral Fee Income from Proprietary (Non-HECM) Reverse Mortgage Loans;

15. Adding a line, RM420, Annual Origination Fee Income from Home Equity Conversion Mortgage Loans;

16. Adding a line, RM422, Annual Origination Fee Income from Proprietary (Non-HECM) Reverse Mortgage Loans;

17. Adding a line, RM510, Commitments Outstanding to Originate Mortgages Secured by Home Equity Conversion Mortgage Loans;

18. Adding a line, RM512, Commitments Outstanding to Originate Mortgages Secured by Proprietary (Non-HECM) Reverse Mortgage Loans;

19. Adding a line, RM610, Annual Mortgage Loans Disbursed for Permanent Loans on Home Equity Conversion Mortgage Loans;

20. Adding a line, RM612, Annual Mortgage Loans Disbursed for Permanent Loans on Proprietary (Non-HECM) Reverse Mortgage Loans;

21. Adding a line, RM620, Annual Loans and Participations Purchased Secured By Home Equity Conversion Mortgage Loans;

22. Adding a line, RM622, Annual Loans and Participations Purchased Secured By Proprietary (Non-HECM) Reverse Mortgage Loans;

23. Adding a line, RM630 Annual Loans and Participations Sold Secured By Home Equity Conversion Mortgage Loans; and

24. Adding a line, RM632, Annual Loans and Participations Sold Secured By Proprietary (Non-HECM) Reverse Mortgage Loans.

I. Discussion of Revisions Proposed for March 2010

A. Additional Detail on Credit Card Loans and Commitments

The extent to which the supply of credit has declined during the current financial crisis has been of great interest to the federal banking agencies and to Congress. Credit provided by financial institutions plays a central role in any economic recovery. The federal banking agencies need data to better determine when credit conditions have eased. One way to measure the supply of credit is to analyze the change in total lending commitments by financial institutions, considering both the amount of loans outstanding and the volume of unused credit lines. These data are also needed for safety and soundness purposes because draws on commitments during periods when financial institutions face significant funding pressures, such as during the fall of 2008, can place significant and unexpected demands on the liquidity and capital positions of these institutions. Therefore, OTS proposes to collect further detail on credit card lending in TFR Schedules SC and CC. These new data items would improve the OTS's ability to timely and accurately evaluate trends in thrift institutions' supply of credit available to households and businesses. These data would also be useful in determining thrift institutions' impact on the effectiveness of the government's economic stabilization programs.

Unused commitments associated with open-end credit card lines are currently reported in line CC423. This data item is not sufficiently detailed for monitoring the supply of credit because it mixes consumer credit card lines with credit card lines for businesses and other entities. As a result of this aggregation, it is not possible to fully monitor credit available specifically to households. Furthermore, bank supervisors would benefit from the split, because the usage patterns, profitability, and evolution of credit quality through the business cycle are likely to differ for consumer credit cards and business credit cards. Therefore, the OTS proposes to revise line CC423 to collect data on unused credit card lines to consumers, and to add a line, CC424, to collect data on unused credit card lines to other entities. Outstanding balances from draws on these credit lines that have not been sold are already reported on Schedule SC. Thrifts report draws on credit cards issued to consumers on line SC328. Draws on credit cards issued to businesses are included with unsecured commercial loans on line SC303. OTS proposes to add a line, SC304, to collect data on the amount of business-related credit card loans outstanding that are included in line SC303.

B. Time Deposits of $100,000 or Greater

On October 3, 2008, the Emergency Economic Stabilization Act of 2008 temporarily raised the standard maximum deposit insurance amount (SMDIA) from $100,000 to $250,000 per depositor. Under this legislation, the SMDIA was to return to $100,000 after December 31, 2009. However, on May 20, 2009, the Helping Families Save Their Homes Act extended this temporary increase in the SMDIA to $250,000 per depositor through December 31, 2013, after which the SMDIA is scheduled to return to $100,000.

At present, thrifts report time deposits in TFR Schedule DI, Consolidated Deposit Information, including total time deposits in line DI340, time deposits of $100,000 or greater in line DI350, and time deposits in IRA or Keogh accounts of $100,000 or greater. In response to the extension of the temporary increase in the limit on deposit insurance coverage, the federal banking agencies understand that time deposits with balances in excess of $100,000, but less than or equal to $250,000, have been growing and can be expected to increase further. However, given the existing Schedule DI reporting requirements, OTS is unable to monitor growth in thrifts' time deposits with balances within the temporarily increased limit on deposit insurance coverage.

Therefore, OTS is proposing to revise line DI350 from “Time Deposits of $100,000 or Greater (Excluding Brokered Time Deposits Participated Out by the Broker in Shares of Less Than $100,000 and Brokered Certificates of Deposit Issued in $1,000 Amounts Under a Master Certificate of Deposit)” to “Time Deposits of $100,000 through $250,000 (Excluding Brokered Time Deposits Participated Out by the Broker in Shares of Less Than $100,000 and Brokered Certificates of Deposit Issued in $1,000 Amounts Under a Master Certificate of Deposit)”, and to add a line DI352 for “Time Deposits Greater than $250,000”. Existing line DI340, Total Time Deposits, and DI360, IRA/Keogh Accounts of $100,000 or Greater Included in Time Deposits, would not change.

C. Revisions of Brokered Deposit Items

As described above in Section II.B., the SMDIA has been increased temporarily from $100,000 to $250,000 through year-end 2013. However, the data that thrifts currently report in the TFR on fully insured brokered deposits in TFR line DI100 is based on the $100,000 insurance limit (except for brokered retirement deposit accounts for which the deposit insurance limit was already $250,000). Therefore, in response to the temporary increase in the SMDIA, OTS is proposing to revise line DI100 from “Total Broker-Originated Deposits: Fully Insured” to “Total Broker-Originated Deposits: Fully Insured: With Balances Less than $100,000”, and to add a line DI102 for “Total Broker-Originated Deposits: Fully Insured: With Balances of $100,000 through $250,000”.

Furthermore, given the linkage between the deposit insurance limits and the reporting on fully insured brokered deposits in Schedule DI, the scope of these items needs to be changed whenever deposit insurance limits change. To ensure that the scope of these lines, including the dollar amounts cited in the captions for these items, changes automatically as a function of the deposit insurance limit in effect on the report date, the TFR instructions would be revised to state that the specific dollar amounts used as the basis for reporting fully insured brokered deposits in lines DI100 and DI102 reflect the deposit insurance limits in effect on the report date.

In addition, consistent with the reporting of time deposits in other items of Schedule DI, brokered deposits would be reported based on their balances rather than the denominations in which they were issued. Line DI100 would include time deposits issued to deposit brokers in the form of large ($100,000 or more) certificates of deposit that have been participated out by the broker in shares with balances of less than $100,000. For brokered deposits that represent retirement deposit accounts eligible for $250,000 in deposit insurance coverage, report such brokered deposits in this item only if their balances are less than $100,000.

Line DI102 would include brokered deposits (including brokered retirement deposit accounts) with balances of $100,000 through $250,000. Also report in this item brokered deposits that represent retirement deposit accounts eligible for $250,000 in deposit insurance coverage that have been issued in denominations of more than $250,000 that have been participated out by the broker in shares of $100,000 through exactly $250,000.

D. Interest Expense and Quarterly Averages for Brokered Deposits

Under Section 29 of the Federal Deposit Insurance Act (12 U.S.C. 1831f), an insured depository institution that is less than well capitalized generally may not pay a rate of interest that significantly exceeds the prevailing rate in the institution's “normal market area” and/or the prevailing rate in the “market area” from which the deposit is accepted. In the case of an adequately capitalized institution with a waiver to accept brokered deposits, the institution may not pay a rate of interest on brokered deposits accepted from outside the bank's “normal market area” that significantly exceeds the “national rate” as defined by the FDIC. On May 29, 2009, the FDIC's Board of Directors adopted a final rule making certain revisions to the interest rate restrictions under Section 337.6 of the FDIC's regulations. Under the final rule, the “national rate” is a simple average of rates paid by U.S. depository institutions as calculated by the FDIC.¹ When evaluating compliance with the interest rate restrictions in Section 337.6 by an institution that is less than well capitalized, the FDIC generally will deem the national rate to be the prevailing rate in all market areas. The final rule is effective January 1, 2010.

¹ The FDIC publishes a weekly schedule of national rates and national interest-rate caps by maturity, which can be accessed at http://www.fdic.gov/regulations/resources/rates/.

At present, the federal banking agencies are unable to evaluate the level and trend of the cost of brokered time deposits to institutions that have acquired such funds, nor can the agencies compare the cost of such deposits across institutions with brokered time deposits. Data on the cost of brokered deposits would also assist the agencies in evaluating the overall cost of institutions' time deposits, for which data have long been collected in the Call Report for banks and TFR for thrifts. Furthermore, many of the financial institutions that have failed since the beginning of 2008 have relied extensively on brokered deposits to support their asset growth. Therefore, to enhance OTS's ability to evaluate funding costs and the impact of brokered time deposits on these costs, OTS is proposing to add four new line items to TFR Schedule DI. The other federal banking agencies are proposing to add similar line items to the Call Report with two Memorandum items to Schedule RC-K, Quarterly Averages, and two items Schedule RI, Income Statement.

In these new line items to TFR Schedule DI, thrifts would report lines DI114 for “Total Broker-Originated Deposits: Interest Expense for Fully Insured Brokered Deposits”, DI116 for “Total Broker-Originated Deposits: Interest Expense for Other Brokered Deposits”, DI544 for “Average Daily Deposit Totals: Fully Insured Brokered Time Deposits”, and DI545 for “Average Daily Deposit Totals: Other Brokered Time Deposits”.

E. Change in Reporting Frequency for Schedule SB—Consolidated Small Business Loans

Section 122 of the Federal Deposit Insurance Corporation Improvement Act requires the federal banking agencies to collect from insured institutions annually the information the agencies “may need to assess the availability of credit to small businesses and small farms.” The OTS meets this requirement through Schedule SB which requests information on the number and amount currently outstanding of “loans to small businesses” and “loans to small farms,” as defined in the TFR instructions, which all thrift institutions must report annually as of June 30.

With the United States now more than a year into a recession, the current administration “firmly believes that economic recovery will be driven in large part by America's small businesses,” but “small business owners are finding it harder to get the credit necessary to stay in business.” ² Because “[c]redit is essential to economic recovery,” Treasury Secretary Geithner stated on March 16, 2009, that “we need our nation's banks to go the extra mile in keeping credit lines in place on reasonable terms for viable businesses.” ³ Accordingly, Secretary Geithner asked the federal banking agencies “to call for quarterly, as opposed to annual reporting of small business loans, so that we can carefully monitor the degree that credit is flowing to our nation's entrepreneurs and small business owners.” ⁴ In response to Secretary Geithner's request and to improve the agencies' own ability to assess the availability of credit to small businesses and small farms, the OTS proposes to change the frequency with which thrifts must submit TFR Schedule SB from annually to quarterly beginning March 31, 2010. OTS is not proposing to make any revisions to the information that thrifts are required to report on this schedule. The other federal banking agencies are proposing a similar change in reporting frequency with which banks must submit Call Report Schedule RC-C, Part II.

² http://www.financialstability.gov/roadtostability/smallbusinesscommunity.html.

³ http://www.financialstability.gov/latest/tg58-remarks.html.

⁴ Ibid.

II. Discussion of Revisions Proposed for December 2010

A. Reverse Mortgage Data

Reverse mortgages are complex loan products that leverage equity in homes to provide lump sum cash payments or lines of credit to borrowers. These products are typically marketed to senior citizens who own homes. The federal banking agencies are currently unable to effectively identify and monitor institutions that offer these products due to a lack of reverse mortgage data.

The reverse mortgage market currently consists of two basic types of products: proprietary products designed and originated by financial institutions and a federally-insured product known as a Home Equity Conversion Mortgage (HECM). Some reverse mortgages provide for a lump sum payment to the borrower at closing, with no ability for the borrower to receive additional funds under the mortgage at a later date. Other reverse mortgages are structured like home equity lines of credit in that they provide the borrower with additional funds after closing, either as fixed monthly payments, under a line of credit, or both. There are also reverse mortgages that provide a combination of a lump sum payment to the borrower at closing and additional payments to the borrower after the closing of the loan.

The volume of reverse mortgage activity is expected to dramatically increase in the coming years as the U.S. population ages. A number of consumer protection related risks and safety and soundness related risks are associated with these products and the agencies need to collect information from financial institutions involved in the reverse mortgage activities to monitor and mitigate those risks. For example, proprietary reverse mortgages structured as lines of credit, which are not insured by the federal government, expose borrowers to the risk that the lender will be unwilling or unable to meet its obligation to make payments due to the borrower. Additionally, in those circumstances in which housing prices are declining, there is the risk that the reverse mortgage loan balance may exceed the value of the underlying collateral value of the home.

As stated above, access to data regarding loan volumes, dollar amounts outstanding, and the institutions offering reverse mortgages or participating in reverse mortgage activity is severely limited. The U.S. Department of Housing and Urban Development provides a monthly report for reverse mortgages endorsed for federal insurance, by fiscal year, for those loans that are part of the federally sponsored HECM program. While this monthly report provides information such as average expected interest rates, average property values, average age of the borrower, and the number of active insured accounts, there is no aggregate monthly data nor is there institution-specific information that identifies the institutions participating in the program. For proprietary reverse mortgage loans, there is no known data on the volume of reverse mortgages, dollar amounts outstanding, or the institutions offering these products.

Therefore, OTS is proposing that a new Schedule RM—Annual Supplemental Consolidated Data on Reverse Mortgages be added to the TFR to collect reverse mortgage data on an annual basis beginning on December 31, 2010. The other federal banking agencies are similarly proposing new items for the Call Report to collect reverse mortgage data on an annual basis beginning on December 31, 2010. Collecting this information will provide the agencies the necessary information for policy development and the management of risk exposures posed by institutions' involvement with reverse mortgages.

OTS is proposing the following 16 new line items for Schedule RM:

1. RM110, Amount of Home Equity Conversion Mortgage Loans Outstanding;

2. RM112, Amount of Proprietary (Non-HECM) Reverse Mortgage Loans Outstanding;

3. RM310, Annual Interest Income from Home Equity Conversion Mortgage Loans;

4. RM312, Annual Interest Income from Proprietary (Non-HECM) Reverse Mortgage Loans;

5. RM330, Annual Referral Fee Income from Home Equity Conversion Mortgage Loans;

6. RM332, Annual Referral Fee Income from Proprietary (Non-HECM) Reverse Mortgage Loans;

7. RM420, Annual Origination Fee Income from Home Equity Conversion Mortgage Loans;

8. RM422, Annual Origination Fee Income from Proprietary (Non-HECM) Reverse Mortgage Loans;

9. RM510, Commitments Outstanding to Originate Mortgages Secured by Home Equity Conversion Mortgage Loans;

10. RM512, Commitments Outstanding to Originate Mortgages Secured by Proprietary (Non-HECM) Reverse Mortgage Loans;

11. RM610, Annual Mortgage Loans Disbursed for Permanent Loans on Home Equity Conversion Mortgage Loans;

12. RM612, Annual Mortgage Loans Disbursed for Permanent Loans on Proprietary (Non-HECM) Reverse Mortgage Loans;

13. RM620, Annual Loans and Participations Purchased Secured By Home Equity Conversion Mortgage Loans;

14. RM622, Annual Loans and Participations Purchased Secured By Proprietary (Non-HECM) Reverse Mortgage Loans;

15. RM630 Annual Loans and Participations Sold Secured By Home Equity Conversion Mortgage Loans; and

16. RM632, Annual Loans and Participations Sold Secured By Proprietary (Non-HECM) Reverse Mortgage Loans.

Request for Comments

OTS may not conduct or sponsor an information collection, and respondents are not required to respond to an information collection, unless the information collection displays a currently valid OMB control number.

In this notice, OTS is soliciting comments concerning the following information collection.

Statutory Requirement: 12 U.S.C. 1464(v) imposes reporting requirements for savings associations.

Type of Review: Revision of currently approved collections.

Affected Public: Business or for profit.

Estimated Number of Respondents and Recordkeepers: 794.

Estimated Burden Hours per Respondent: 57.4 hours average for quarterly schedules and 2.0 hours average for schedules required only annually plus recordkeeping of an average of one hour per quarter.

Estimated Frequency of Response: Quarterly.

Estimated Total Annual Burden: 190,828 hours.

OTS is proposing to revise the TFR, which is currently an approved collection of information, in March and December 2010. The effect on reporting burden of the proposed revisions to the TFR requirements will vary from institution to institution depending on the institution's asset size and its involvement with the types of activities or transactions to which the proposed changes apply.

The proposed TFR changes that would take effect as of March 31, 2010, would revise the captions for three existing items, add eight new items, and change the reporting frequency of data in Schedule SB from annual to quarterly.

The proposed TFR revisions that would take effect December 31, 2010, would add a new Schedule RM—Annual Supplemental Consolidated Data on Reverse Mortgages which would add 16 new line items in an annual collection of data on reverse mortgages.

OTS estimates that the implementation of these reporting revisions will result in an increase in the current reporting burden imposed by the TFR on all savings associations.

As part of the approval process, we invite comments addressing one or more of the following points:

a. Whether the proposed revisions to the TFR collections of information are necessary for the proper performance of the agency's functions, including whether the information has practical utility;

b. The accuracy of the agency's estimate of the burden of the collection of information;

c. Ways to enhance the quality, utility, and clarity of the information to be collected;

d. Ways to minimize the burden of information collections on respondents, including through the use of automated collection techniques, the Internet, or other forms of information technology; and

e. Estimates of capital or start up costs and costs of operation, maintenance, and purchase of services to provide information.

OTS will summarize the comments received and include them in the request for OMB approval. All comments will become a matter of public record.

Clearance Officer: Ira L. Mills, (202) 906-6531, Office of Thrift Supervision, 1700 G Street, NW., Washington, DC 20552.

OMB Reviewer: Desk Officer for OTS, FAX: (202) 395-6974, U.S. Office of Management and Budget, 725—17th Street, NW., Room 10235, Washington, DC 20503.

Dated: August 14, 2009.
Deborah Dakin,
Acting Chief Counsel, Office of Thrift Supervision.

[FR Doc. E9-19908 Filed 8-18-09; 8:45 am]

BILLING CODE 6720-01-P